DEPARTMENT OF COMMERCE

National Oceanic and Atmospheric Administration

[I.D. 050503A]

Marine Mammals; File No. 763-1534-01

AGENCY: National Marine Fisheries Service (NMFS), National Oceanic and Atmospheric Administration (NOAA), Commerce.

ACTION: Issuance of permit amendment.

SUMMARY: Notice is hereby given that the National Zoological Park, Smithsonian Institution, Washington, D.C. 20008-2598 [Principal Investigator: Dr. Daryl Boness], has been issued an amendment to scientific research Permit No. 763-1534-00.

ADDRESSES: The amendment and related documents are available for review upon written request or by appointment in the following office(s):

Permits, Conservation and Education Division, Office of Protected Resources, NMFS, 1315 East-West Highway, Room 13705, Silver Spring, MD 20910; phone (301) 713-2289; fax (301) 713-0376; and

Assistant Regional Administrator for Protected Resources, Northeast Region, NMFS, One Blackburn Drive, Gloucester, MA 01930-2298; phone (508)281-9346; fax (508)281-9371.

FOR FURTHER INFORMATION CONTACT: Ruth Johnson or Jennifer Skidmore (301) 713-2289.

SUPPLEMENTARY INFORMATION: On March 28, 2003, notice was published in the Federal Register (68 FR 14585) that an amendment of Permit No. 763-1534-00 issued March 10, 2000 (65 FR 14947), had been requested by the above-named organization. The requested amendment has been granted under the authority of the Marine Mammal Protection Act of 1972, as amended (16 U.S.C. 1361 et seq.) and the Regulations Governing the Taking and Importing of Marine Mammals (50 CFR part 216).

The Permit authorizes the Holder to import/export samples taken from non-endangered species of the Orders Cetacea and Pinnipedia [except walrus].

Dated: May 29, 2003.
Stephen L. Leathery,
Chief, Permits, Conservation and Education Division, Office of Protected Resources, National Marine Fisheries Service.

[FR Doc. 03-14176 Filed 6-4-03; 8:45 am]

BILLING CODE 3510-22-S